ENVIRONMENTAL PROTECTION AGENCY

[FRL-7818-5]

Notice of Solicitation: Building State, Territorial, and Tribal Capacity To Address Children's Environmental Health: Environmental Triggers of Childhood Asthma; Initial Announcement

AGENCY: Environmental Protection Agency (EPA).

ACTION: Notice of solicitation.

Part I. Overview Information

(1) Federal Agency: Environmental Protection Agency, Office of the Administrator, Office of Children's Health Protection.

(2) Funding Opportunity Title: Building State, Territorial, and Tribal Capacity to Address Children's Environmental Health: Environmental Triggers of Childhood Asthma; Initial Announcement.

(3) Funding Opportunity Number: USEPA-AO-OCHP-04-02.

(4) CFDA Number: 66.609 Protection of Children and the Aging as a Fundamental Goal of Public Health and Environmental Protection, Fiscal Year 2004, Environmental Protection Agency.

(5) Deadline for the Letter of Intent: October 15, 2004. All applicants must submit a Letter of Intent (up to two pages in length) to be considered for an invitation to submit a Full Proposal.

(6) Solicitation Closing Date and Full Proposal shipping date for applicants found to be eligible by EPA based on the Letters of Intent: December 29, 2004.

(7) Table of Contents:

Part I. Overview Information

Part II. Full Text of Announcement

Section I. Funding Opportunity Description

Section II. Award Information

Section III. Eligibility Information

Section IV. Application and Submission Information

Section V. Application Review Information

Section VI. Award Administration Information

Section VII. Agency Contact

Section VIII. Other Information

Attachment Sample Letter of Intent

(8) Executive Summary

(a) Funding Opportunity Title: “Building State, Territorial, and Tribal Capacity to Address Children's Environmental Health: Environmental Triggers of Childhood Asthma.”

(b) Announcement Type: Initial Offering.

(c) Funding Opportunity Number: USEPA-AO-OCHP-04-02.

(d) CFDA Number: 66.609 Protection of Children and the Aging as a Fundamental Goal of Public Health and Environmental Protection, Fiscal Year 2004, EPA.

(e) Purpose of Funding Opportunity: Identify projects that will build state, territorial, and tribal capacity to address the environment triggers of childhood asthma. This solicitation focuses on projects that equip environment and health departments/agencies, and social service agencies where indicated, of states, territories and tribes as partners or state/territorial/tribal or regional asthma coalitions with substantive government involvement, to achieve measurable environmental and public health results by identifying and reducing environmental risks to protect and improve the environmental health of children impacted by asthma. Projects must be accomplished through collaborative efforts of environment and health departments/agencies, and social service agencies where indicated, of states, territories and tribes as partners or state/territorial/tribal or regional asthma coalitions with substantive government involvement which focus on one or more Target Investment Areas. Target Project Areas define a range of activities from which applicants must choose to understand, coordinate, address and manage the environmental triggers of childhood asthma.

(f) Awards: EPA anticipates awarding approximately seven to nine grants from these Full Proposals. Approximately $360,000 are expected to be awarded. Grants or cooperative agreements may be requested from $25,000 to $50,000 for a period of one year. No cost sharing is required.

(g) Eligibility: The environment or health departments/agencies, in partnership with social service departments/agencies when indicated, of the states of EPA Regions 2-10 (NJ, NY, DE, MD, PA, VA, WV, AL, FL, GE, KY, MS, NC, SC, TN, IL, IN, MI, MN, OH, WI, AR, LA, NM, OK, TX, IA, KS, MO, NE, CO, MT, ND, SD, UT, WY, AZ, CA, HI, NV, AK, ID, OR and WA) and the District of Columbia; tribes whose territories fall within the aforementioned states and the territories of the United States. Applicant agencies must propose to collaborate with their counterparts in their government's environment or health department or related agencies in this project.

Applicants may also be state/territorial/tribal or regional (e.g. the asthma coalition of the greater metropolitan area of Smallville) asthma coalitions in the geographic areas defined above, with documented significant sustained involvement of senior representatives of the environment and health departments of the states, territories or tribes in the geographic area served by the state/territorial/tribal or regional asthma coalition.

(h) Application and Submission Information: A two part application process will be followed. Letters of Intent must be submitted by e-mail October 15, 2004. Applicants with successful Letters of Intent will be invited to participate in an optional Pre-proposal Assistance Call on October 26, 2004 and to submit a Full Proposal which must be shipped by December 29, 2004. A sample Letter of Intent is included as an Attachment to this Solicitation. Other application materials are available on the Office of Children's Health Protection Web site: http://yosemite.epa.gov/ochp/ochpweb.nsf/content/grants.htm and the EPA Grants Administration Web site http://www.epa.gov/ogd/grants/how_to_apply.htm.

Part II. Full Text of Announcement

Section I. Funding Opportunity Description

1. Background

In recent years, EPA's Office of Children's Health Protection has encouraged and supported collaboration between state level health and environment departments/agencies toward the end of building state capacity to combat childhood asthma. Since the summer of 2001, the Environmental Council of the States (ECOS) has collaborated with the Association of State and Territorial Health Officials (ASTHO) and the U.S. Environmental Protection Agency to design a flexible template for state level strategies and actions to minimize environmental factors that contribute to asthma in children. This focus on environmental factors complements the on-going Centers for Disease Control (CDC) state asthma program which recognizes the need to address environmental factors but does not explicitly provide guidance or support for this aspect of disease prevention and control.

Throughout 2002, ECOS, ASTHO, and EPA hosted a series of four workshops to refine the details of a cooperative approach in four specific areas: Data, environmental factors in homes, environmental factors in schools and child care facilities, and outdoor environmental factors.

The funding priorities of this Request for Proposals are a reflection of the draft action agenda, Catching Your Breath http://www.astho.org/pubs/CatchingYourBreathReport.pdf that resulted from this intensive collaborative visioning process.

With this Funding Opportunity, the Office of Children's Health Protection is pleased to be able to extend this capacity building effort to territories of the United States and tribes.

2. Funding Priorities

The purpose of this funding opportunity, “Building State, Territorial, and Tribal Capacity to Address Children's Environmental Health: Environmental Triggers of Childhood Asthma,” is to identify projects that will build state, territorial, and tribal capacity to address the environmental triggers of childhood asthma. This solicitation focuses on projects that equip environment and health departments/agencies, in partnership with social service agencies, where indicated, of states, territories and tribes or state/territorial/tribal or regional asthma coalitions with substantive government involvement, to achieve measurable environmental and public health results by identifying and reducing environmental risks to protect and improve the environmental health of children impacted by asthma. This initiative will help achieve these goals by identifying and funding projects that:

• Focus efforts on benefitting communities at greatest risk including places with high levels of toxic air pollution and areas with disproportionate impact from environmental health hazards related to childhood asthma;

• Measure, assess, and reduce environmental triggers of health risks associated with childhood asthma;

• Increase collaboration among environment, health and other relevant agencies within states, territories and tribes, or within state/territorial/tribal or regional asthma coalitions with their government partners. Focus collaboration upon understanding the burden of childhood asthma in at-risk communities and minimizing and eliminating the sources of environmental triggers; and

• Build institutional capacity to understand and solve children's environmental health problems through innovative techniques; and achieve measurable children's environmental health benefits.

Specifically, projects must meet the Statutory Criteria. Further, they must focus on one or more Target Investment Areas and build state, territorial or tribal capacity to address children's environmental health through collaborative efforts of environment, health and other appropriate government agencies in partnership with other organizations through work to understand, coordinate, address and manage the environmental triggers of childhood asthma through one of the Target Project Areas.

a. Statutory Criteria

EPA expects to award these grants under the Clean Air Act Section 103(b)(3). In addition to the program criteria list below, a proposal must meet the following two important Statutory Criteria to be considered for funding.

(1) Statutory Criterion 1

A project must consist of activities authorized under the Clean Air Act Section 103(b)(3). This statute authorizes grants for: “research, investigations, experiments, demonstrations, surveys and studies.” These activities relate generally to the gathering or transferring of knowledge. Grant proposals should emphasize a “learning” concept, as opposed to “fixing” a specific environmental problem through a well-established method. For example, the application of the EPA “Tools for Schools” protocols in schools to manage environmental triggers and thereby reduce childhood asthma is not eligible nor would a project to develop a home assessment checklist tool and conduct routine home assessments be eligible. The project's activities must advance the state of knowledge or transfer information to other practitioners in the field. The statutory term “demonstration” can encompass the first application of an approach or an innovative application of a previously used method. The term “research” may include the application of established practices as they contribute to “learning” about the effectiveness of an environmental approach.

(2) Statutory Criterion 2

Section 103 of the Clean Air Act (CAA) authorizes EPA's Administrator to conduct and promote the coordination and acceleration of research, investigations, experiments, demonstrations, surveys and studies relating to the causes, effects (including health and welfare effects), extent, prevention, and control of air pollution by making grants to air pollution control agencies, to other public or nonprofit private agencies, institutions, and organizations for purposes stated in Section 103(a)(1) http://www.epa.gov/oar/caa/caa103.txt. The overarching concern or principle focus must be on the statutory purpose of this grant authority. Proposals should describe the relationship of their proposed activities to the air (ambient and indoor) pollution statute. Products may include, but are not limited to, conference presentations with published papers, case studies, workshops, educational materials, innovative tools, or on-site demonstrations.

b. Target Investment Areas and Target Project Areas

In order to qualify as eligible projects under this initiative, projects must focus on and benefit one or more Target Investment Areas and build state, territorial and tribal capacity to address children's environmental health through collaborative efforts of environment, health, and other appropriate government departments/agencies in partnership with other organizations to coordinate, address and manage the environmental triggers of childhood asthma through one of the Target Project Areas.

(1) Target Investment Areas

(a) Benefit communities at greatest risk of childhood asthma including places with high risk from toxic air pollution, and/or

(b) Areas with disproportionate impact from environmental health hazards related to childhood asthma.

(2) Target Project Areas

Building state, territorial and tribal capacity to address childhood asthma can be accomplished through projects in one or more of these areas:

(a) Organize or charter state/territorial/tribal or regional (e.g. the asthma coalition of the greater metropolitan area of Smallville) asthma coalitions with government partners to provide innovative solutions to address the environmental triggers of childhood asthma. Broad-based membership must feature senior officials from the environment and health agencies of the states, territories or tribes within the geographic area covered who demonstrate significant leadership and pledge sustained participation in the coalition.

(b) Existing state, territorial or tribal governmental partnerships or state/territorial/tribal or regional asthma coalitions, design and implement projects that focus on understanding the burden of childhood asthma in Target Investment Areas and identify sources of asthma triggers;

(c) Collaborative efforts of state, territorial and tribal environment, health and social service departments/agencies and/or state/territorial/tribal or regional asthma coalitions which include these entities, to demonstrate and evaluate the effectiveness of:

(i) New methods, approaches or protocols for reducing or eliminating exposure to environmental asthma triggers in early childhood (0-4 years). This may include but is not limited to changes in environmental health requirements of child care facility approval, education and implementation work in large-scale and home-based child care facilities, pre-K and nursery school programs, Head Start and Migrant Head Start facilities, homeless shelters serving children of this age range, etc.

(ii) New approaches for encouraging, rewarding, and measuring the elimination of environmental asthma triggers from the environments of young children. These may include, but are not limited to training and/or certification programs for child care providers, training and follow-up programs for new parents in high risk communities, training and consumer education for parents on environmental asthma triggers common in the child care setting and what to look for when choosing a child care provider based on these concerns, etc.

Note: For all the above, “environmental asthma triggers” is meant to include known indoor and outdoor triggers such as dust mites, pet dander, cockroach dust, ambient particulate matter, diesel exhaust, ground level ozone (smog), second hand tobacco smoke, etc.

Section II. Award Information

Funds available for these projects are expected to total approximately $360,000. Grants and cooperative agreements are expected to be awarded to approximately seven to nine state, territorial or tribal environment or health agencies or state/territorial or regional (e.g. the asthma coalition of the greater metropolitan area of Smallville) asthma coalitions. Proposals for less than $25,000 and greater than $50,000 will not be considered. Award amounts will vary depending upon solicitation priorities, proposal quality and level of activity, and resource availability. The Agency reserves the right to make no awards under this solicitation.

Projects may expand upon ongoing work within the focus of this solicitation. However, the boundaries of the previous and proposed work under this solicitation must be clear in terms of the work to be done and the budget to support the new proposal.

It is expected that grants and cooperative agreements will begin around the spring of 2005 and be completed in the spring of 2006.

If the applicant chooses to submit a proposal for a cooperative agreement, the Agency will have substantial involvement in the project. The applicant must define the expectations for Agency involvement in the project. Such involvement may mean EPA review and approval of project scope and phases; EPA participation in and collaboration on, various phases of the work; EPA review of draft and final work products; regular e-mail, phone and conference calls.

Projects not selected for award under this solicitation will be retained on file and made available for potential funding by OCHP and other EPA offices for a period of one year from the date of receipt of the Full Proposal by EPA.

While only environment or health agencies/departments or state/territorial/tribal or regional asthma coalitions with government partners may be the direct recipients and lead administrators of the project, other partners are encouraged to participate and are eligible for compensation through sub-contracting agreement(s) between the lead agency/department and collaborating partners as long as the state/territorial/tribal department/agency maintains a substantive, hands-on role in the management and implementation of the project. Materials to support the projects may be secured through procurement contracts.

Section III. Eligibility Information

1. Applicants

a. Eligible Applicants

Eligible applicants under this managed competition include: government environment or health departments/agencies, in partnership with social service departments/agencies when indicated, of states, territories or tribes as listed below, and state/territorial/tribal or regional (e.g. the asthma coalition of the greater metropolitan area of Smallville) asthma coalitions addressing environmental triggers of childhood asthma with substantive involvement of these government department/agency partners.

Eligible governments include: the states of EPA Regions 2-10 (NJ, NY, DE, MD, PA, VA, WV, AL, FL, GE, KY, MS, NC, SC, TN, IL, IN, MI, MN, OH, WI, AR, LA, NM, OK, TX, IA, KS, MO, NE, CO, MT, ND, SD, UT, WY, AZ, CA, HI, NV, AK, ID, OR and WA) and the District of Columbia; tribes whose territories fall within the aforementioned states; and the territories of the United States.

b. Ineligible Applicants

(1) The EPA Region 1 states of Connecticut, Maine, Massachusetts, New Hampshire, Rhode Island and Vermont and the tribes whose territories fall within this Region are expressly excluded from this funding Initiative. Funding was available directly from the EPA Region 1 Office through a different competed solicitation in April of 2004 known as the “Healthy Communities Grant Program” to support New England states' efforts in the arena of childhood asthma and related community-based endeavors. See http://www.epa.gov/region01/grants/healthycommunities.html or contact Sandra Padula at (617) 918-1797 for more information.

(2) Businesses, federal agencies, and individuals are not eligible to be grant recipients. They are encouraged to work in partnership with eligible applicants on projects.

c. Non-profit Status

Applicants are not required to have a formal Internal Revenue Service (IRS) non-profit designation, such as 501(c)(3) or 501(c)(4); however they must present in their Full Proposal their letter of incorporation or other documentation demonstrating their non-profit or not-for-profit status. This requirement does not apply to public agencies or federally-recognized tribes. Failure to enclose a letter of incorporation or other documentation demonstrating non-profit or not-for-profit status will render Full Proposals incomplete and they will not be reviewed. Applicants who do have an IRS 501(c)(4) designation are not eligible for grants if they engage in lobbying, no matter what the source of funding for the lobbying activities. No recipient may use grant funds for lobbying. For profit enterprises are not eligible to receive sub-grants from eligible recipients, although they may receive contracts, subject to EPA regulations on procurement under assistance agreements, 40 Code of Federal Regulations (CFR) 30.40 (for non-governmental recipients) and 40 CFR 31.36 (for governments).

d. Tribal Status

Tribal agencies must supply documentation of their authorizing tribal resolution.

e. Intergovernmental Review of Federal Programs (SPOC List)

Applicants must adhere to the provisions of The Executive Order 12372, “Intergovernmental Review of Federal Programs” (SPOC List) applies. See http://www.whitehouse.gov/omb/grants/spoc.html for further information.

f. Responsible Officials and Partnerships

As stated above, eligible applicants in this managed competition include environment, health agencies/departments, in partnership with social service agencies where applicable, of states, territories or tribes, and state/territorial/tribal or regional (e.g. the asthma coalition of the greater metropolitan area of Smallville) asthma coalitions with government partners. While only environment or health agencies/departments or state/territorial/tribal or regional asthma coalitions with government partners may be the direct recipients and lead administrators of the project, other partners are encouraged to participate and are eligible for compensation through sub-contracting agreement(s) between the lead agency/department and collaborating partners as long as the state, territorial or tribal agency/department maintains a substantive, hands-on role in the management and implementation of the project. Please note that substantive involvement by the environment and health departments is a key evaluation criterion. Projects that are essentially pass-through funding to a third party for independent implementation will not meet the evaluation criteria. Examples of substantive collaborative involvement include but are not limited to:

(1) Both agencies/departments dedicating personnel;

(2) Agencies/departments co-sponsoring and presenting at crucial workshops and meetings; or

(3) Both agencies/departments being involved in peer reviews of documents and/or products.

g. Statutory Criterion

Applicants must meet standards for eligibility described in section 103(b)(3) of the CAA (http://www.epa.gov/oar/caa/caa103.txt).

h. Incurring Costs

Pre-award costs will not be covered under this solicitation. Grant recipients may begin incurring allowable costs on the date identified in the EPA award agreement. Activities must be completed and funds spent within the time frames specified in the award agreement. EPA grant funds may be used only for the purposes set forth in the grant agreement and must conform to the Federal cost principles contained in OMB Circular A-87; A-122; and A-21, as appropriate. Ineligible costs will be reduced from the final grant.

2. Cost Sharing or Matching

Cost sharing or matching funds are not required for this solicitation.

3. Other Eligibility Criteria

a. Responsiveness Criteria That Will Make An Application Ineligible

(1) Letters of Intent

The Letter of Intent must comply with the following responsiveness criteria to be eligible to submit a Full Proposal: Applicant eligibility, completeness, administrative responsiveness, and timeliness of submission.

(2) Full Proposal

The Full Proposal must comply with the following responsiveness criteria for the Full Proposal to be reviewed for possible award: Timeliness of shipment, administrative responsiveness, order of materials presentation, completeness, original signatures as required, required number of copies and the absence of unnecessary materials and extraneous information.

b. Multiple Proposals

State, territorial and tribal departments/agencies and state/territorial/tribal or regional (e.g. the asthma coalition of the greater metropolitan area of Smallville) asthma coalitions addressing environmental triggers of childhood asthma with substantive involvement of these government department/agency partners (as described above in section III) may submit more than one proposal if the proposals are for different projects. However, no more than one grant will be awarded under this offering to any given state, territory or tribal entity or state/territorial/tribal or regional asthma coalition serving a given geographic area. Environment and health departments/agencies of state, territorial and tribal organizations are encouraged to collaborate with joint proposals under this solicitation that is focused on bringing environment and health departments/agencies together to address environmental triggers of childhood asthma.

Section IV. Application and Submission Information

1. Address To Request Application Package

This is a two-stage application process involving a Letter of Intent which is evaluated for basic eligibility, administrative and technical responsiveness. Applicants submitting acceptable Letters of Intent will be invited to participate in a Pre-proposal assistance conference call and to submit a Full Proposal.

A sample Letter of Intent is provided at the end of this solicitation. Paper copies of this announcement, the sample Letter of Intent and the requisite forms for the Full Proposal can be obtained by contacting EPA personnel listed in Section VII of this solicitation. Electronic copies of the requisite forms for the Full Proposal are available at http://yosemite.epa.gov/ochp/ochpweb.nsf/content/grants.htm. If your Full Proposal is selected for possible award, your EPA Regional Office will supply you with any additional Federal forms needed to process your Full Proposal for award.

2. Content and Form of Application (Proposal) Submission

a. Stage 1

(1) Stage 1 Content and Form of Letter of Intent

(a) Stage 1 of this application process is a Letter of Intent (Up to two pages in length) which is due via e-mail to fletcher.bettina@epa.gov on or before October 15, 2004. Letters of Intent must have an email subject line starting with Letter of Intent: Followed by your Project Title. Email confirmation of receipt will be sent within two business days of receipt.

(b) Email submission of the Letter of Intent is strongly preferred. However, if email is not available, the Letter of Intent may be faxed to the attention of Bettina B. Fletcher at 202-564-2733. If a confirming phone call for fax transmissions is not received within two business days, a phone call should be made to Bettina Fletcher at 202-564-2646 to initiate a trace.

(c) A sample Letter of Intent is provided at the end of this solicitation. A copy also can be found at: http://yosemite.epa.gov/ochp/ochpweb.nsf/content/grants.htm.

(d) Your Letter of Intent must provide all of the following information in the following order:

(Section 1) Contact information for your organization:

(1) Name of your organization.

(2) Project name.

(3) Name of authorized representative.

(4) Address.

(5) Phone number and fax number.

(6) E-mail address.

(7) Web site, if any.

(Section 2) A brief description of how your organization fits each stated eligibility criterion and how your organization proposes to collaborate with the other agency(ies)/department(s).

(Section 3) One page project summary including:

(1) Dollar value of the project;

(2) Description of the organizational unit which will lead/oversee the project;

(3) A brief summary statement that articulates the project's concept and states its goals and objectives;

(4) A brief description of how this project will meet the Statutory Criteria.

(5) Identification of the specific Target Investment Area and the specific Target Project Area addressed by the project;

(6) A brief summary of the method that will be used to achieve the project goals and how the outcomes will be measured;

(7) Summary of the kinds of activities that will be funded by the project and;

(8) A brief description of the role the state, territorial, or tribal environment and health agencies or state, territorial or tribal members of your state/territorial/tribal or regional asthma coalition will play in this project.

(Section 4) Indication of Interest in Participating in Optional Pre-proposal Assistance Call and Special Needs:

(1) Indication if you would like to participate in the October 26, 2004 optional Pre-proposal Assistance Call if your Letter of Intent is accepted.

Note: Letters of Intent submitted to EPA will be evaluated for basic eligibility, administrative and technical responsiveness. Only those proposals satisfying all the requirements will be invited to submit a Full Proposal; and

(2) Indication of any special needs to permit participation on such a call.

b. Stage 2 Full Proposals, If Invited By EPA

Stage 2 of this application process is a Full Proposal (including optional Pre-proposal Assistance Conference Call). Note: IF your Letter of Intent is accepted, you will be invited to participate in Stage 2

(1) Optional Pre-proposal Assistance Conference Call

An optional Pre-proposal Assistance Conference Call will be held on October 26, 2004, to answer any questions prospective eligible applicants may have. If you indicate in your Letter of Intent a desire to participate in the Pre-proposal Assistance Conference Call and your Letter of Intent is found to be eligible, you will be emailed instructions for participating in the conference call.

Note: Applicants should periodically check the web page below for updated information to applicants (e.g., posting of some Qs & As from Letters of Intent). A summary of the questions and answers from the October 26, 2004 optional Pre-proposal Assistance Call will be posted by November 2, 2004 at: http://yosemite.epa.gov/ochp/ochpweb.nsf/content/grants.htm.

(2) Required Content and Form of Full Proposal, if Invited to Submit One

Note: You must complete both the EPA Application Kit for Federal Assistance and the Work Plan Proposal Narrative as described below:

(a) Table of Contents with page numbers for all elements of this submission.

(b) EPA Application Kit for Federal Assistance.

The EPA Application Kit for Federal Assistance can be obtained on the Web at http://yosemite.epa.gov/ochp/ochpweb.nsf/content/grants.htm or http://www.epa.gov/ogd/grants/how_to_apply.htm.

(c) Completed SF-424A Budget Forms. http://www.epa.gov/ogd/grants/how_to_apply.htm contains information about completing SF-424A Budget Forms and Understanding Cost Principles for a Federal grant.

(d) Work Plan Proposal Narrative:

In addition to the standard forms contained in the EPA Application Kit for Federal Assistance and the SF-424A budget forms, you must submit a Work Plan Proposal Narrative of no longer than 12 pages (plus appendices) that follows exactly the format outlined below. Pages and information submitted out of order will not be reviewed. Text may be single or double spaced, no smaller than 12 point font. The pages must be letter sized (8½x11 inches). Margins are not specified. Proposals must be legible. Note: All proposals should be well explained and easily read. Information should be clear and concise, well organized and contain no unnecessary jargon. The Work Plan Proposal Narrative Content should include:

(i) Contact Information Sheet (1 page): For the project lead and each collaborating partner, include contact name, organization, title, address, phone, fax, and e-mail.

(ii) Letter of Intent: Include a copy of your previously submitted Letter of Intent as a project summary.

(iii) Project Description (Up to 5 pages): Describe precisely what your project will achieve. In your narrative, answer these questions in this order:

Question 1. Who will conduct the project? What are the specific roles and responsibilities of the state, territorial and tribal representatives in this project? What experience do the partners have in addressing environmental triggers of childhood asthma? What is the nature of your agencies'/departments' or coalition's on-going programs addressing children's environmental health. What will be the roles and responsibilities of any other partners? Who will be affected by and/or benefit from your project? How will they be targeted, identified, and recruited?

Question 2. Why is it needed?

Question 3. What is the purpose of your project? Explain your strategy— your goals and objectives, the specific activities you will conduct to achieve them, and what your projected outcomes will be. How will you evaluate your results and your level of success? Describe any mechanisms for tracking outputs (e.g. how many households were educated, how many facilities were assessed, in how many facilities were actions taken), and evaluating outcomes (e.g. the effectiveness of the education and mitigation efforts to (1) decrease their measured levels of asthma triggers in children's environments and/or (2) decrease the number of times children access acute care services for asthma (e.g. frequency and severity of asthma attacks, frequency of asthma-related absences and the level of increased awareness); How will the project be sustained beyond the life of the EPA grant?

Question 4. How will project deliverables and/or findings be presented/packaged to be shared with and replicated by other states, territories, tribes or state/territorial/tribal or regional asthma coalitions?

Question 5. All projects should be completed prior to June 15, 2006. Outline a detailed time line/responsibility matrix to link your project activities to a clear project schedule. Indicate at what point over the months of your budget period each action, project outcome or milestone occurs and indicate which partner is responsible for each action. Note: Tabular or graphic presentation of this information is acceptable for this time line; smaller but readable typeface is allowed for this information

(e) Project Budget (1-2 pages):

(i) Personnel (For Each Positions: % of Time Worked, Annual Salary, Salary Proposed for this Project).

(ii) Fringe Benefits (Full-time Rate).

(iii) Long Distance Travel (Destination, Cost of Trip, # of Travelers, # of Trips, Amt. Proposed).

(iv) Air Fare (Destination, # Travelers, # Trips).

(v) Local Travel (Destination, Distance, Mileage, # Travelers).

(vi) Direct Cost—Equipment (Quantity, Cost per Unit, Amt. Proposed).

(vii) Direct Cost—Supplies (Quantity, Cost per Unit, Amt. Proposed).

(viii) Direct Cost—Other e.g. Phone, Postage, Conference Calls (Quantity, Cost per Unit, Amt. Proposed).

(ix) Direct Cost—Contracts (Direct Labor, Overhead @__rate, Materials and Supplies, G&A Rate).

(x) Direct Cost—Consultants (Skill, Quantity, Rate).

(xi) Indirect Cost Charges (Total Direct Costs × __% (indirect cost rate = Estimated).

Note: Eligible Expenses—salaries/fringe, travel, communications, equipment rental, indirect overhead, public outreach efforts (workshops, public forums, meeting expenses), office expenses, printing and copying (conference and promotional materials), and Web site dissemination of information related to the project.

Note: Ineligible Expenses—capital expenditures, construction expenses, lobbying, endowments, formal educational expenses, entertainment, remediation and removal expenses, medical equipment and supplies, air sampling, and equipment purchases as the sole focus of the assistance agreement.

(f) Appendices: Include project specific letters of commitment from each state, territorial or tribal environment, health and other agencies as well as major partners involved in the success of this project. Include resumes for key personnel as well. Letters of commitment focus on the partner's role in the proposed project. Do not submit letters of general support, they will not be reviewed. Do not include any materials other than letters of commitment for this project and resumes.

3. Other Instructions

(a) Required Contents of Full Proposal Package

To support the EPA review process, the proposal must contain one complete Full Proposal package with original signatures in contrasting ink and nine duplicate hard copy sets of the Full Proposal package including the following materials in the order listed below:

(1) Table of Contents with page numbers for all elements of this submission.

(2) Completed EPA Application Kit for Federal Assistance.

(3) Completed SF 424A Budget Forms.

(4) Work Plan Proposal Narrative consisting of:

(i) Contact Information Sheet.

(ii) Copy of the Letter of Intent.

(iii) Project Description.

(5) Project Budget.

(6) Appendices exactly as defined in Section IV. Application and Submission Information.

To support the EPA review process, the proposal is required to contain one complete Full Proposal package with original signatures in contrasting ink and nine duplicate hard copy sets of the Full Proposal package including the following materials in the order listed above.

Do not submit additional items. Unnecessary materials (cover letters, un-requested forms or binders) will make your proposal ineligible.

(b) DUNS Instructions

Grant applicants are required to provide a Dun and Bradstreet (D&B) Data Universal Numbering System (DUNS) number when applying for Federal grants or cooperative agreements. The DUNS number will supplement other identifiers required by statute or regulation, such as tax identification numbers. Organizations can receive a DUNS number in one day, at no cost, by calling the dedicated toll-free DUNS Number request line at 1-866-705-5711. Individuals who would personally receive a grant or cooperative agreement award from the Federal government apart from any business or non-profit organization they may operate are exempt from this requirement. The Web site where an organization can obtain a DUNS number is: http://www.dnb.com. This process takes 30 business days and there is no cost unless the organization requests expedited (1-day) processing, which includes a fee of $40.

(c) Other Instructions

Successful Stage 2 Applicants must submit the following information after EPA notifies them of its intent to make an award, but prior to the award: quality assurance plan for any project involving environmental data; evidence of compliance with human subjects requirements where research is found to be involved.

4. Submission Dates and Times

(a) A required Stage 1 Letter of Intent is due via email to fletcher.bettina@epa.gov on or before October 15, 2004 as indicated on the email transmission. If email is unavailable, a fax submission may be used. The same due date applies and the date will be determined by the date registered on the receiving fax machine log and printed on the received documents by said machine. A confirming email will be sent within two working days of receipt of e-mailed Letters of Intent. A confirming phone call will be made within two working days of receipt for faxed Letters of Intent. The applicant should follow up with a phone call to Bettina Fletcher at 202-564-2646 if a confirmation is not received within the stated time frames. Email and fax transmissions received after October 15, 2004 will not be reviewed.

(b) Applicants submitting a Letter of Intent will be notified via email on or before October 22, 2004 if they are deemed eligible to participate in the optional Pre-proposal Assistance Call and to submit a Full Proposal.

(c) Applicants with accepted Letters of Intent who expressed an interest in participating in the optional Pre-proposal Assistance Call will be advised in this email on or before October 22, 2004 of the call-in number and the specific time for the call.

(d) All questions before and after the October 26, 2004 Pre-proposal Assistance Call, must be sent by email to the following address: fletcher.bettina@epa.gov. The word “QUESTION” in capital letters and the name of the solicitation should appear in the subject line. Answers to allowable questions will be provided in a timely manner at: http://yosemite.epa.gov/ochp/ochpweb.nsf/content/grants.htm. EPA will not respond to technical questions by phone or fax.

(e) Optional Pre-proposal Assistance Call will be held on October 26, 2004.

(f) A summary of the questions and answers from the October 26 2004 Pre-proposal Conference Call will be posted on the OCHP Web site http://yosemite.epa.gov/ochp/ochpweb.nsf/content/grants.htm on or before November 2, 2004.

(g) To ensure fair and open competition, EPA will respond to questions submitted by email up to December 17, 2004. Questions and answers will be posted in a timely manner at: http://yosemite.epa.gov/ochp/ochpweb.nsf/content/grants.htm.

(h) Full Proposals from invited eligible applicants must be delivered to the private shipping company (e.g., Federal Express, UPS, DHL, or courier) for shipment or postmarked (see note in Section VIII) by the U.S. Post Office (not a private postage meter) postmark on or before December 29, 2004. Full Proposals shipped or mailed after this date will not be considered for funding under this solicitation. Date of shipment will be determined by the shipping company's shipping information or the U.S. Post Office (not a private postage meter) postmark on the shipping package depending upon the method of shipment.

(i) Applicants will receive an email notification of receipt of the Full Proposal within one month of receipt by the Agency.

(j) The Selected Projects will be announced as their award negotiations are completed around late spring 2005. Those projects not selected for award in this funding cycle will also be notified at this time.

(k) Start Date for Projects: June 15, 2005 is the earliest start date that applicants should plan on and enter on their proposal forms and time lines. Grant recipients may begin incurring allowable costs on the start date identified in the EPA grant award agreement. Budget periods may run up to 12 months from the date of award.

5. Intergovernmental Review:

Applicants may be subject to Executive Order 12372. “Intergovernmental Review of Federal Programs.” See http://www.whitehouse.gov/omb/grants/spoc.html for more details.

6. Funding Restrictions

a. Eligible Expenses

Salaries/fringe, travel, communications, equipment rental, indirect overhead, public outreach efforts (workshops, public forums, meeting expenses), office expenses, printing and copying (conference and promotional materials), and web site dissemination of information related to the project.

b. Ineligible Expenses

Capital expenditures, construction expenses, lobbying, endowments, formal educational expenses, entertainment, remediation and removal expenses, medical equipment and supplies, air sampling, and equipment purchases as the sole focus of the assistance agreement.

c. Incurring Costs

Pre-award costs will not be covered under this solicitation. Grant recipients may begin incurring allowable costs on the date identified in the EPA award agreement. Activities must be completed and funds spent within the time frames specified in the award agreement. EPA grant funds may be used only for the purposes set forth in the grant agreement and must conform to the Federal cost principles contained in OMB Circular A-87; A-122; and A-21, as appropriate. Ineligible costs will be reduced from the final grant.

7. Other Submission Requirements

a. Do not submit additional items. Unnecessary materials (i.e. un-requested forms or binders) create extra burden for the reviewers and failure to follow instructions may render your project ineligible.

b. Letters of Intent must be sent via email to fletcher.bettina@ epa.gov. If email is not available, Letters of Intent may be faxed to Bettina Fletcher at 202-564-2733.

c. Because of continuing delays in the delivery of mailed parcels, Full Proposals are best delivered by a private shipping company (e.g., Federal Express, UPS, DHL, or courier) to the attention of: Bettina Fletcher, U.S. EPA, Office of Children's Health Protection, 1200 Pennsylvania Ave, NW., Mail Code 1107A, Room 2512 Ariel Rios North, Washington, DC 20004.

If the applicant has no ability to send the Full Proposal in by way of a private shipping company, the Full Proposal may be mailed to the attention of: Bettina Fletcher, U.S. EPA, Office of Children's Health Protection, 1200 Pennsylvania Ave, NW., Mail Code 1107A, Room 2512 Ariel Rios North, Washington, DC 20460.

Note: To document the date of shipment, Full Proposal packages must be postmarked by the U.S. Post Office, not by a private postage meter.

d. If the applicant experiences technical difficulties in making a submission, contact Bettina Fletcher at 202-564-2646 immediately.

Section V. Application Review Information

1. Criteria

a. Letter of Intent

(1) Administrative Responsiveness Criteria

The Letter of Intent must comply with the following responsiveness criteria to be eligible to submit a Full Proposal: Applicant eligibility, completeness, administrative responsiveness, and timeliness of submission.

(2) Technical Responsiveness Criteria

The Letters of Intent will also be compared to Statutory Criteria, Target Investment Areas and the Target Project Areas in this solicitation. Applicants whose projects are clearly not responsive to the published Statutory Criteria, Target Investment Areas and Target Project Areas may not be invited to submit a Full Proposal.

b. Full Proposal

(1) Administrative Responsiveness Criteria

The Full Proposal must comply with the following responsiveness criteria for the Full Proposal to be reviewed for possible award: timeliness of shipment, administrative responsiveness, order of materials presentation, completeness, original signatures as required, required number of copies and the absence of unnecessary materials and extraneous information.

(2) Multiple Proposals

State, territorial and tribal departments/agencies and state/territorial/tribal or regional (e.g. the asthma coalition of the greater metropolitan area of Smallville) asthma coalitions asthma coalitions addressing environmental triggers of childhood asthma with substantive involvement of these government department/agency partners (as described above in Section III) may submit more than one proposal if the proposals are for different projects. However, no more than one grant will be awarded under this offering to any given state, territory or tribal entity or state/territorial/tribal or regional asthma coalition serving a given geographic area. Environment and health departments/agencies of State, territorial and tribal organizations are encouraged to collaborate with joint proposals under this solicitation that is focused on bringing environment and health departments/agencies together to address environmental triggers of childhood asthma.

(3) Technical Review (Maximum Score: 110 Points)

Each Full Proposal will be scored based on how well it meets the specific selection criteria below.

(a) Describes Collaboration Between Environment, Health and Other Appropriate Agencies for States, Territories or Tribes in Partnership or Through State/Territorial/Tribal or Regional Asthma Coalitions (Maximum Points: 30)

The proposal describes substantive collaborative partnerships to address the environmental triggers of childhood asthma. Letters of commitment specifically describe activities of the partners for this project. Significant, sustained involvement of senior representatives of state, territorial or tribal environment, health, and related agency officials is documented. The organization is appropriate to do this project. The project does not principally pass-through funds to an independent third party.

(b) Focuses efforts upon and benefits Target Investment Area (Maximum Points: 20)

The proposal describes how the project will specifically benefit one or more the Target Investment Areas. Describes the need for this project in this Target Investment Area and how it will reduce risks for children's environmental health in this Target Investment Area.

(c) Addresses Needs in Target Project Area (Maximum Points: 30)

The proposal describes how the project will specifically address the significant environmental issues around childhood asthma in the context of one or more of the Target Project Areas. The proposal includes specific goals and objectives with measurable, achievable outputs and outcomes. Proposal uses existing tools with demonstrated effectiveness such as facility assessment checklists rather than investing resources to recreate already-available materials. The proposal includes steps and methodology to track outputs. The project includes evaluation steps to measure degree of success for the project and to make mid-course adjustments, if needed. The project has addressed potential sources of resources and mechanisms for sustaining the project after this EPA funding cycle has been completed.

(d) Cost Effective Budget (Maximum Points: 20)

The proposal budget reflects: reasonable costs and efficient use of resources for the work proposed. Funds are not used as pass-through funding to a third party for project implementation. This subsection will be scored on: (1) How well the budget information clearly and accurately shows how funds will be used, (2) whether there funding request is reasonable given the activity proposed, and (3) whether the funding can be expected to provide a good return on the investment. Proposal leverages funding from other agencies and programs to increase the accomplishment of this project without raising concerns of double billing for the same work.

(e) Bonus Points (Points: Up to 10)

Reviewers have the flexibility to provide from zero to 10 bonus points for exceptional project qualities in accordance with one or more of the following principles of quality and efficacy:

(1) Applicant's materials are consistent with EPA guidance and recommendations. In particular, applicant outlines educational materials and mitigation methods for second-hand tobacco smoke, house dust mites, cockroaches, molds, and animal dander that are compatible with the guidance contained in EPA's asthma brochure, A Clear Your Home of Asthma Triggers: Your Children Will Breathe Easier, http://www.epa.gov/asthma/resources.html and the findings and recommendations contained in the January, 2000 National Academy of Sciences report on asthma, A Clearing the Air: Asthma and Indoor Air Exposures, http://books.nap.edu/catalog/9610.html.

(2) Projects focused upon ambient air pollutants and asthma are consistent with EPA guidance that can be accessed through http://www.epa.gov/air/topics/comap.html.

(3) Use of education materials reflecting current standards for conducting environmental health or public health education and outreach activities, particularly with respect to motivating behavioral changes in low-literacy, low-income, and disproportionately impacted populations.

(4) Proposals including extraordinarily compelling examples and other strengths noted by the reviewers who evaluate and compare proposals.

2. Review and Selection Process

After individual projects are evaluated, scored, and ranked against the published criteria by EPA staff and peers external to the Agency, EPA may take into account the following factors in making their final selections:

(a) Effectiveness of collaborative activities and partnerships, as needed to successfully implement the project;

(b) Environmental and educational importance of the activity or product;

(c) Effectiveness of the delivery mechanism (i.e. workshop, conference, etc.);

(d) Cost effectiveness of the proposal; and

(e) Geographic distribution of projects.

3. Cost Analysis

Projects recommended for possible funding based upon the findings of the reviewers and EPA's consideration of the final selection factors described above receive a cost analysis to ensure that the project costs in the budget are reasonable, allocable, and allowable per OMB Cost Circulars A-87, A-122, and A-21 as appropriate.

In the course of this Cost Analysis, unallowable and unproductive activities will be deleted and unreasonable costs will be deflated.

Section VI. Award Administration Information

1. Award Notices

Organizations submitting Letters of Intent will be notified regarding their successful or unsuccessful Stage 1 application via email on or before October 22, 2004.

Project Officers of organizations with Full Proposals that were selected for possible award (pending successful award negotiations) will be contacted around the spring of 2005 by the appropriate Regional Project Officer to work through the awards process. Upon completion of a successful award negotiation and following a mandatory five day Congressional Notification Period, each successful grant applicant will receive a written notice signed by the EPA Project Officer/grants official. This document will serve as the authorizing document. This award notice will be faxed to the Key Contact as specified in the Full Proposal. Successful applicants must receive this document before drawing any funds.

2. Administrative and National Policy Requirements

a. Responsible Officials

Projects must be performed by the applicant/recipient or a designee within that organization who is satisfactory to the applicant and EPA. All proposals must identify any other person(s) and their organization(s) who will assist in carrying out the project. Recipients are responsible for receiving the grant award agreement from EPA and ensuring that all grant conditions are satisfied. Recipients are responsible for the successful completion of the project.

b. Incurring Costs

No pre-award costs should be incurred by the recipient. Grant recipients may begin incurring allowable costs on the start date identified in the EPA grant award agreement. Activities must be completed and funds spent within the time frames specified in the award agreement. EPA grant funds may be used only for the purposes set forth in the grant agreement and must conform to the Federal cost principles contained in OMB Circular A-87, A-122, and A-21, as appropriate. Ineligible costs will be reduced from the final grant award.

c. Materials To Be Provided by the Successful Stage 2 Applicants After EPA Notifies Them of Its Intent To Make an Award

The Successful Stage 2 Applicant must submit the following information after EPA notifies them of its intent to make an award, but prior to the award: Quality assurance plan for any project involving environmental data; evidence of compliance with human subjects requirements where research is found to be involved.

3. Reporting

Specific financial and other reporting requirements will be identified in the EPA grant award agreement. Grant recipients must submit the standard formal quarterly progress reports, unless otherwise instructed in the award agreement. A quality assurance plan will be required if environmental data are collected. Also, two copies of the final report and two copies of all work products must be sent to the EPA project officer within 90 days after the expiration of the budget period. This submission will be accepted as the final requirement, unless the EPA project officer notifies the recipient that changes must be made.

Section VII. Agency Contact

1. Contact Information

Bettina B. Fletcher; Office of Children's Health Protection; 1200 Pennsylvania Ave, NW.; Mail Code 1107A; Room 2512 Ariel Rios North; Washington, DC 20004-2403; fletcher.bettina@epa.gov; Phone: (202) 564-2646; FAX (202) 564-2733; Web Site: http://yosemite.epa.gov/ochp/ochpweb.nsf/content/grants.htm.

2. Mechanisms for Questions and Answers

a. Applicants who need more information about this grant or clarification about specific requirements of this Solicitation Notice, should periodically check the Web page http://yosemite.epa.gov/ochp/ochpweb.nsf/content/grants.htm for posted information (e.g. administrative clarification and responses to Qs & As from Letters of Intent and participate, if eligible, in the Pre-proposal Assistance Conference Call).

b. Specific clarifying questions can be posed via email to fletcher.bettina@epa.gov. The word “QUESTION” in Capital Letters and the name of the solicitation should appear in the Subject Line. Responses to allowable questions will be posted in a timely manner on the OCHP Web site at: http://yosemite.epa.gov/ochp/ochpweb.nsf/content/grants.htm.

c. If email is absolutely not available, requests for materials may be made by FAX to 202-564-2733. Requests should be sent to the attention of Bettina B. Fletcher.

d. To Ensure Fair And Open Competition, EPA Will Answer No Clarifying Questions In Person Except On The Pre-Proposal Conference Call.

e. Applicants may submit questions via email to fletcher.bettina@epa.gov. Answers will be posted on the Web page: http://yosemite.epa.gov/ochp/ochpweb.nsf/content/grants.htm.

f. Questions and answers from the October 26, 2004 optional Pre-proposal Assistance Call will be summarized and posted within a week of the Assistance Call on the OCHP Web page at: http://yosemite.epa.gov/ochp/ochpweb.nsf/content/grants.htm.

g. To ensure fair and open competition, EPA will respond to questions submitted by email up to December 17, 2004. Questions and answers will be posted in a timely manner at: http://yosemite.epa.gov/ochp/ochpweb.nsf/content/grants.htm.

3. If paper copies of the EPA Application Kit for Federal Assistance are required, contact Bettina B. Fletcher at fletcher.bettina@epa.gov.

Section VIII. Other Information

1. Examples of Potential Projects

The following are examples of types of projects that EPA would consider for funding the Building State, Territorial, and Tribal Capacity to Address Children's Environmental Health: Environmental Triggers of Childhood Asthma. The following are examples of components EPA considers to be elements of building state, territorial and tribal capacity to address children's environmental health in the context of the environmental triggers of childhood asthma. These examples are illustrative only and are not intended to limit proposal ideas.

• Design an asthma surveillance tracking system.

• Linked an asthma surveillance tracking system with environmental data.

• Design an asthma education program through a collaboration of the environment and health agencies.

• Build state, territorial, tribal or regional capacity to decrease asthma incidence in areas with disproportionate impact from environmental health hazards.

• Sponsor state, territorial, tribal or regional workshops to train school officials, day care facility operators, health officials, parents of school-aged children on air quality and environmental triggers of childhood asthma in schools and day care facilities.

• Create a technical resource and training center for state, territorial, tribal or regional community air risk screening as well as a resource for pollution and exposure prevention related to childhood asthma.

• Target reduction of smoke including environmental tobacco smoke, smoke from burning of trash, and smoke from field burning through education and awareness campaigns.

• Facilitate productive dialogues and strategy development among states, territories, tribal and regions as well as across disciplines regarding asthma tracking and surveillance and the development of healthier day care facilities and schools.

• Conduct multilingual, multi-cultural outreach and education activities that result in better health outcomes related to childhood asthma.

• Conduct an education and outreach campaign in low-income, diverse neighborhoods on vehicle idling, ambient and indoor air quality and childhood asthma.

2. Resources

a. Please visit our Web site for information on children's environmental health issues and these grant materials at http://yosemite.epa.gov/ochp and http://yosemite.epa.gov/ochp/ochpweb.nsf/content/grants.htm respectively.

b. We strongly suggest that applicants examine the ECOS/ASTHO state draft action agenda, Catching Your Breath, http://www.astho.org/pubs/CatchingYourBreathReport.pdf for background on state/asthma activities.

c. First time recipients of Federal funds are encouraged to familiarize themselves with the regulations applicable to assistance agreements found in the Code of Federal Regulations (CFR) Title 40, part 31 for State and local government entities. See http://www.epa.gov/docs/epacfr40/chapt-I.info/subch-B.html. Applicants may also obtain a copy of the CFR Title 40, part 31 at the local U.S. Government Bookstore, or through the U.S. Government Printing Office. This solicitation notice contains all the information and forms necessary to prepare a Letter of Intent. If your project is selected as a finalist after the evaluation process is concluded, EPA will provide you with additional Federal forms needed to process your Full Proposal.

3. Regulatory References

EPA's regulations on procurement under assistance agreements can be found in 40 Code of Federal Regulations (CFR) 30.40 (for non-governmental recipients) and 40 CFR 31.36 (for governments).

4. Dispute Resolution Process

Dispute Resolution Process: Procedures are in 40 CFR 30.63 and 40 CFR 31.70.

5. Shipping Information for Full Proposals, If Invited By EPA

Due to on-going mail delays in the Washington, DC area, applicants who are invited to submit a Full Proposal are strongly encouraged to send all required materials by way of a private shipping company (e.g., Federal Express, UPS, DHL, or courier) to the attention of: Bettina Fletcher, U.S. EPA, Office of Children's Health Protection, 1200 Pennsylvania Ave, NW., Mail Code 1107A, Room 2512 Ariel Rios North, Washington, DC 20004.

If the applicant has no ability to send the Full Proposal in by way of a private shipping company, the Full Proposal may be mailed to the attention of: Bettina Fletcher, U.S. EPA, Office of Children's Health Protection, 1200 Pennsylvania Ave, NW., Mail Code 1107A, Room 2512 Ariel Rios North, Washington, DC 20460.

Note: To document the date of shipment, Full Proposal packages must be postmarked by the U.S. Post Office, not by a private postage meter.

6. The Agency Reserves the Right to Make No Awards Under This Solicitation

7. Attachment

Sample Letter of Intent (Up to 2 pages total)

All state, tribal, territorial agencies/departments and state/territorial/tribal or regional (e.g. the asthma coalition of the greater metropolitan area of Smallville) asthma coalitions who intend to apply should complete this Letter of Intent information and return it to EPA via email to fletcher.bettina@epa.gov by October 15, 2004.

* * * * *

Section 1

Organization Name:

Project Name:

Applicant Address:

Street:

City:

State, Zip Code:

Applicant Phone Number:

Applicant FAX Number:

Applicant Email Address:

Applicant Web Site (if any):

Authorized Representative of the Organization:

* * * * *

Section 2

Brief description of how your organization fits each stated eligibility criterion and how how your organization proposes to collaborate with other agency(ies)/departments in this project.

Section 3—Project Summary (Not To Exceed One Page)

Description of the organizational unit that will lead/oversee the project:

Brief summary statement that articulates the project's concept and states its goals and objectives:

A brief description of how this project will meet the Statutory Criteria:

Identification of the specific Target Investment Area and specific Target Project Area addressed by the project:

Brief summary of the method that will be used to achieve the project goals and how the outcomes will be measured:

Summary of the kind of activities that will be funded by the project:

Brief description of the role the state, territorial, or tribal environment and health agencies or state, territorial or tribal members of your state/territorial/tribal or regional asthma coalitions will play in this project:

Section 4

Indicate below whether your organization would like to participate in the October 26, 2004 optional Pre-proposal Assistance Call if Your Letter of Intent Is Found To Be Eligible. Questions and answers from the October 26, 2004 Pre-proposal Assistance Call will be posted by November 2, 2004 at: http://yosemite.epa.gov/ochp/ochpweb.nsf/content/grants.htm.

☐ Yes, I would like to participate in the October 26, 2004 Pre-proposal Assistance Call IF my Letter of Intent is found by EPA to be eligible.

☐ No, I decline to participate in the October 26, 2004 Pre-proposal Assistance Call if my Letter of Intent is found by EPA to be acceptable.

☐ Please describe any type of support [e.g. Telephone for the Deaf (TDD) number and/or Federal Information Relay (FIR)] you require to permit participation in the Pre-proposal Assistance Conference Call.

Section 5

To help us prepare for the best possible Pre-proposal Assistance Call, please submit in advance any questions you have at this time regarding this application process.

Additional questions may also be posed on the call.

Dated: September 21, 2004.
Joanne Rodman,
Acting Director, Office of Children's Health Protection.

[FR Doc. 04-21580 Filed 9-24-04; 8:45 am]

BILLING CODE 6560-50-P